DEPARTMENT OF VETERANS AFFAIRS

38 CFR Part 4

RIN 2900-AS40

Providing a Minimum Evaluation for Bradycardia

AGENCY: Department of Veterans Affairs.

ACTION: Proposed rule.

SUMMARY: The Department of Veterans Affairs (VA) proposes to revise diagnostic code (DC) 7009, Bradycardia (Bradyarrhythmia), to provide a minimum 10% evaluation after pacemaker implantation. This revision will allow VA to align DC 7009 with DC 7018, Implantable cardiac pacemakers. VA also proposes to remove Note (1) found under DC 7009.

DATES: Comments must be received by March 31, 2026.

ADDRESSES: You may submit comments through www.regulations.gov under RIN 2900-AS40. That website includes a plain-language summary of this rulemaking. Instructions for accessing agency documents, submitting comments, and viewing the rulemaking docket are available on www.regulations.gov under “FAQ.”

FOR FURTHER INFORMATION CONTACT: Argentina Hauser and Cintia Darlington, Veterans Benefit Administration, (202) 461-9700.

SUPPLEMENTARY INFORMATION:

I. Background

VA published a final rule in the Federal Register at 86 FR 54089 on September 30, 2021, that amended the portion of the rating schedule that addresses the cardiovascular system and added DC 7009 to evaluate symptomatic bradyarrhythmia that requires pacemaker implantation. Bradycardia is characterized by a resting heart rate slower than 60 beats per minute, and bradyarrhythmia is a slow heart rate resulting from an irregular heartbeat or arrhythmia. See “Bradyarrhythmia,” Cleveland Clinic, https://my.clevelandclinic.org/health/diseases/23349-bradyarrhythmia (last visited January 12, 2026). Like other types of arrhythmias or heart conditions, providers may recommend pacemaker implantation to help regulate and maintain a healthy heartrate. Id.; see also “Pacemakers, Who Needs Them,” National Heart, Lung, and Blood Institute, https://www.nhlbi.nih.gov/health/pacemakers/who-needs (last visited January 12, 2026).

Prior to establishing this new DC, VA evaluated bradyarrhythmia requiring pacemaker implantation under DC 7018, Implantable cardiac pacemakers. Therefore, VA intended to mirror the criteria within DC 7018, which allowed VA to properly evaluate bradyarrhythmia while distinguishing it from other arrhythmias. However, VA did not provide a minimum evaluation under DC 7009.

II. Minimum Evaluation

VA is proposing to add a minimum 10% evaluation under DC 7009 after pacemaker implantation. Currently, VA uses DC 7009 to assign a temporary 100% evaluation for one month following hospital discharge for implantation or re-implantation of a pacemaker. Thereafter, VA evaluates the condition using the General Rating Formula for Diseases of the Heart with no minimum evaluation. However, under DC 7018, VA assigns a temporary 100% evaluation for one month following hospital discharge for implantation or re-implantation of a pacemaker, but thereafter VA evaluates the condition as supraventricular tachycardia (DC 7010), ventricular arrhythmias (DC 7011), or atrioventricular block (DC 7015) with a minimum 10% evaluation. Since both DCs involve pacemaker implantation, the criteria for DC 7009 should also include a minimum 10% evaluation after pacemaker implantation or re-implantation to align it with DC 7018. Additionally, this action is comparable to the assignment of 10% evaluation for other diseases of the heart when continuous medication is required. While it is possible that Veterans with bradyarrhythmia treated by a pacemaker may qualify for a 10% evaluation or higher under the General Rating Formula for Diseases of the Heart due to their metabolic equivalent workload, requirement for continuous medication, or evidence of cardiac hypertrophy or dilatation, VA is proposing to revise DC 7009 to ensure there is no disparity between DCs 7009 and 7018 regarding minimum evaluations.

III. Note (1)

VA is also proposing to remove Note (1) under DC 7009. Within Note (1), VA defines Bradycardia (bradyarrhythmia) as conduction abnormalities leading to a heart rate below 60 beats per minute and provides the five general classes of bradyarrhythmia, which are (1) sinus bradycardia, (2) atrioventricular (AV) junctional (nodal) escape rhythm, (3) AV heart block (second or third degree) or AV dissociation, (4) atrial fibrillation, or flutter with a slow ventricular response, and (5) idioventricular escape rhythm. VA originally added Note (1) to define bradycardia and aid rating personnel in comprehending and assessing bradycardia. While Note (1) is informative, it could potentially lead to confusion if the American Heart Association or some other authoritative organization proposes to change the definition or the bradyarrhythmia classes. Since it is not necessary to include a definition or the classifications of bradycardia within 38 CFR 4.104, the removal of Note (1) is appropriate. Due to the proposed removal of Note (1), VA must redesignate Note (2) as the only note under DC 7009.

Executive Orders 12866, 13563, and 14192

VA examined the impact of this rulemaking as required by Executive Orders 12866 (Sept. 30, 1993) and 13563 (Jan. 18, 2011), which direct agencies to assess all costs and benefits of available regulatory alternatives and, if regulation is necessary, to select regulatory approaches that maximize net benefits. The Office of Information and Regulatory Affairs has determined that this rulemaking is not a significant regulatory action under Executive Order 12866, as supplemented by Executive Order 13563. This proposed rule is not expected to be an Executive Order 14192 regulatory action because this rule is not significant under Executive Order 12866. The Regulatory Impact Analysis associated with this rulemaking can be found as a supporting document at www.regulations.gov.

Regulatory Flexibility Act

The Secretary hereby certifies that the adoption of this proposed rule will not have a significant economic impact on a substantial number of small entities as they are defined in the Regulatory Flexibility Act (5 U.S.C. 601-612). This certification is based on the fact that small entities or businesses are not impacted by revisions to the VA Schedule for Rating Disabilities . Therefore, pursuant to 5 U.S.C. 605(b), this rule is exempt from the initial and final regulatory flexibility analysis requirements of sections 603 and 604.

Unfunded Mandates

This proposed rule would not result in the expenditure by State, local, and Tribal governments, in the aggregate, or by the private sector, of $100 million or more (adjusted annually for inflation) in any one year.

Paperwork Reduction Act

This proposed rule contains no provisions constituting a collection of information under the Paperwork Reduction Act of 1995 (44 U.S.C. 3501-3521).

List of Subjects in 38 CFR Part 4

Disability benefits, Pension, Veterans.

Signing Authority

Douglas A. Collins, Secretary of Veterans Affairs, approved this document on January 27, 2026 and authorized the undersigned to sign and submit the document to the Office of the Federal Register for publication electronically as an official document of the Department of Veterans Affairs.

Nicole R. Cherry,
Alternate Federal Register Liaison Officer, Department of Veterans Affairs.

For the reasons stated in the preamble, VA proposes to amend 38 CFR part 4 as set forth below:

PART 4—SCHEDULE FOR RATING DISABILITIES

Subpart B—Disability Ratings

1. The authority citation for part 4, subpart B continues to read as follows:

Authority: 38 U.S.C. 1155, unless otherwise noted.

2. Amend § 4.104 by revising the entry for DC 7009 to read as follows:

§ 4.104 Schedule of ratings—cardiovascular system.—cardiovascular system.

Diseases of the Heart
| Rating
* * * * * * *
7009 Bradycardia (Bradyarrhythmia) symptomatic, requiring permanent pacemaker implantation:
For one month following hospital discharge for implantation or re-implantation | 100
Thereafter:
Evaluate under the General Rating Formula.
Minimum | 10
Note: Asymptomatic bradycardia (bradyarrhythmia) is a medical finding only. It is not a disability subject to compensation.

* * * * *

3. Amend appendix A to part 4 by revising the entry for diagnostic code 7009 to read as follows:

Appendix A to Part 4—Table of Amendments and Effective Dates Since 1946

Sec. | Diagnostic code No. |
* * * * * * *
| 7009 | Added November 14, 2021; criterion and note [INSERT EFFECTIVE DATE OF FINAL RULE].
* * * * * * *

[FR Doc. 2026-01875 Filed 1-29-26; 8:45 am]

BILLING CODE 8320-01-P